ENVIRONMENTAL PROTECTION AGENCY

40 CFR Part 721

[EPA-HQ-OPPT-2018-0627 and EPA-HQ-OPPT-2018-0697; FRL-10003-45]

RIN 2070-AB27

Significant New Use Rules on Certain Chemical Substances (18-1 and 18-4); Technical Correction

AGENCY: Environmental Protection Agency (EPA).

ACTION: Final rule; technical correction.

SUMMARY: EPA issued final significant new use rules (SNURs) in the Federal Register of November 25, 2019 for 22 chemical substances that were the subject of premanufacture notices (PMNs) (SNUR batch 18-1), and in in the Federal Register of December 5, 2019 for 29 chemical substances that were the subject of PMNs (SNUR batch 18-4). In SNUR batch 18-1, for the chemical substance that was the subject of PMN P-15-114, EPA made errors in the SNUR requirements for hazard communication and protection in the workplace, resulting in inconsistencies with the same requirements in the associated TSCA Order. For SNUR batch 18-4, for one of the two chemical substances that are subject to the SNUR, EPA made a typographical error when identifying the associated PMN number in the SNUR. Additionally, for two other SNURs, language in the SNURs incorrectly refers to requirements in “the TSCA Order” rather than in the SNUR itself. This document is being issued to correct these errors.

DATES: This technical correction is effective on February 25, 2020.

ADDRESSES: The dockets for this action, identified by docket identification (ID) numbers EPA-HQ-OPPT-2018-0627 and EPA-HQ-OPPT-2018-0697, are available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the dockets available at http://www.epa.gov/dockets.

FOR FURTHER INFORMATION CONTACT:

For technical information contact: Kenneth Moss, Chemical Control Division, Office of Pollution Prevention and Toxics, Environmental Protection Agency, 1200 Pennsylvania Ave. NW, Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. What does this technical correction do?

EPA issued a final rule (referred to as SNUR Batch 18-1) in the Federal Register of November 25, 2019 (84 FR 64754) (FRL-10001-30) for significant new uses for 22 chemical substances that were the subject of PMNs. EPA also issued a final rule (SNUR Batch 18-4) in the Federal Register of December 5, 2019 (84 FR 66599) (FRL-10002-30) for significant new uses for 29 chemical substances that were the subject of PMNs. In SNUR Batch 18-1, EPA made errors when specifying worker protection and hazard communication requirements for the chemical substance 2-butanone 1,1,1,3,4,4,4-heptafluoro-3-(trifluoromethyl)- (PMN P-15-114, CAS No. 756-12-7), listed in the significant new use rule (SNUR) codified at 40 CFR 721.11151, resulting in inconsistencies between the SNUR and the associated TSCA 5(e) Order for the PMN. This action corrects these errors as follows:

• The worker protection requirements in paragraph (a)(2)(i) of the SNUR are corrected to refer to 40 CFR 721.63(a)(1) and (3) rather than 721.63(a)(1) through (3), thereby removing the reference to 40 CFR 721.63(a)(2).

• The hazard communication requirements in paragraph (a)(2)(ii) of the SNUR are corrected to change the reference to 40 CFR 721.72(g)(3) from “(g)(3)(ii)(harmful to fish)” to “(g)(3)(harmful to aquatic organisms)(harmful to fish).”

In SNUR Batch 18-4, EPA made a typographical error in the SNUR at 40 CFR 721.11236 when identifying the PMN number associated with the chemical B component of P-17-373. It was mislabeled as P-13-373. EPA also made errors in paragraph (a)(1) of the SNURs at 40 CFR 721.11236 and 721.11237 when describing an exemption from SNUR terms after the chemicals are completely reacted (cured). Language in paragraph (a)(1) of the SNURs incorrectly refers to requirements of “the TSCA Order” rather than the SNUR itself. This action corrects these errors as follows:

• Paragraph (a)(1) of the SNUR at 40 CFR 721.11236 is corrected to identify the PMN number for chemical B as P-17-373.

• The final sentence of paragraph (a)(1) for the SNURs at 40 CFR 721.11236 and 721.11237 is corrected to refer to “The requirements of this section” rather than “The requirements of the TSCA Order.”

II. Why is this correction issued as a final rule?

Section 553 of the Administrative Procedure Act (APA) (5 U.S.C. 553(b)(3)(B)) provides that, when an Agency for good cause finds that notice and public procedure are impracticable, unnecessary or contrary to the public interest, the Agency may issue a final rule without providing notice and an opportunity for public comment. EPA has determined that there is good cause for making this technical correction final without prior proposal and opportunity for comment. Correcting the worker protection and hazard communication requirements specified in the November 25, 2019 SNUR is necessary for (1) the proper identification of the human health and environmental hazards associated with PMN substance; and (2) the proper identification of protective measures required to be employed in the workplace, consistent with the associated TSCA section 5(e) Order for the PMN substance. EPA finds that this constitutes good cause under 5 U.S.C. 553(b)(3)(B).

III. Do any of the statutory and Executive Order reviews apply to this action?

No. For a detailed discussion concerning the statutory and Executive Order review, refer to Unit XII. of the November 25, 2019 final rule.

IV. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and recordkeeping requirements.

Dated: January 30, 2020.
Tala Henry,
Deputy Director, Office of Pollution Prevention and Toxics.

Therefore, 40 CFR part 721 is corrected as follows:

PART 721—[AMENDED]

1. The authority citation for part 721 continues to read as follows:

Authority: 15 U.S.C. 2604, 2607, and 2625(c).

2. In § 721.11151, revise paragraphs (a)(2)(i) and (ii) to read as follows:

§ 721.11151 2-Butanone 1,1,1,3,4,4,4-heptafluoro-3-(trifluoromethyl)-.

(a) * * *

(2) * * *

(i) Protection in the workplace. Requirements as specified in § 721.63(a)(1) and (3) (when determining which persons are reasonable likely to be exposed as required for § 721.63(a)(1), engineering control measures (e.g., enclosure or confinement of the operation, general and local ventilation) or administrative control measures (e.g., workplace policies and procedures) shall be considered and implemented to prevent exposures, where feasible), (b) (concentration set at 1.0%), and (c).

(ii) Hazard communication. Requirements as specified in § 721.72(a) through (d), (f), (g)(1)(i), (g)(2)(i)(v), (g)(3) (harmful to aquatic organisms) (harmful to fish), (g)(4)(iii), and (g)(5). It is a significant new use unless containers of the PMN substance are labeled with the statement: “Contains a dielectric fluid which should not be mixed or used in conjunction with sulfur hexafluoride (SF6)”. Alternative hazard and warning statements that meet the criteria of the Globally Harmonized System and OSHA Hazard Communication Standard may be used.

* * * * *

3. In § 721.11236, revise paragraph (a)(1) to read as follows:

§ 721.11236 Heteromonocycle, homopolymer, alkyl substituted carbamate, alkyl ester (generic).

(a) * * *

(1) The chemical substances identified generically as heteromonocycle, homopolymer, alkyl substituted carbamate, alkyl ester (PMN P-17-373 chemical A and P-17-373 chemical B) are subject to reporting under this section for the significant new uses described in paragraph (a)(2) of this section. The requirements of this section do not apply to quantities of the substance after they have been completely reacted (cured).

* * * * *

4. In § 721.11237, revise paragraph (a)(1) to read as follows:

§ 721.11237 Polysiloxanes, di alkyl, substituted alkyl group terminated, alkoxylated, reaction products with alkanoic acid, isocyanate substituted-alkyl carbomonocycle and polyol (generic).

(a) * * * (1) The chemical substance identified generically as polysiloxanes, di alkyl, substituted alkyl group terminated, alkoxylated, reaction products with alkanoic acid, isocyanate substituted alkyl carbomonocycle and polyol (PMN P-17-374) is subject to reporting under this section for the significant new uses described in paragraph (a)(2) of this section. The requirements of this section do not apply to quantities of the PMN substance after they have been completely reacted (cured).

* * * * *

[FR Doc. 2020-02906 Filed 2-24-20; 8:45 am]

BILLING CODE 6560-50-P